DEPARTMENT OF DEFENSE

Department of the Army; Corps of Engineers

Withdrawal of Notice for Preparation of a Draft Supplemental Environmental Impact Statement to the July 2002 Final Dredged Material Management Plan and Environmental Impact Statement, McNary Reservoir and Lower Snake River Reservoirs, in the States of Oregon, Washington, and Idaho

AGENCY: Department of the Army, U.S. Army Corps of Engineers, DOD.

ACTION: Notice.

SUMMARY: The Walla Walla District of the U.S. Army Corps of Engineers (Corps) is withdrawing its intent to prepare a Supplemental Environmental Impact Statement (SEIS) to the July 2002 Final Dredged Material Management Plan (DMMP) and Environmental Impact Statement (EIS): McNary Reservoir and Lower Snake River Reservoirs (DMMP/EIS). The Notice of Intent was for the SEIS published in the Federal Register on June 5, 2003 (68 FR 33684). The Corps is now re-evaluating channel maintenance needs and has determined that an SIES is not appropriate at this time.

FOR FURTHER INFORMATION CONTACT: Mr. Jack Sands, Program Manager, Walla Walla District, Corps of Engineers, CENWW-PM-PPM, 201 North Third Avenue, Walla Walla, WA 99362, phone (509) 527-7287, or Ms. Sandra Simmons, Environmental Coordinator, Walla Walla District, Corps of Engineers, CENWW-PD-EC, 201 North Third Avenue, Walla Walla, WA 99362, phone (509) 527-7265.

SUPPLEMENTARY INFORMATION: The DMMP/EIS defined the programmatic approach the Corps planned to follow for the next 20 years for maintaining the congressionally authorized navigation channel by managing sediment deposition, dredging, and disposing of dredged material removed from those reaches of the Columbia, Snake, and Clearwater Rivers that make up that portion of the Columbia/Snake Rivers Inland Navigation Waterway within the Walla Walla District boundaries. The DMMP/EIS also addressed the need to provide flow conveyance at the confluence of the Snake and Clearwater Rivers at Lewiston, Idaho, as dredging has been used to maintain adequate flow conveyance in this area. The DMMP/EIS considered four alternatives: (1) No Action (No Change), Maintenance Dredging with In-Water Disposal; (2) Maintenance Dredging with In-Water Disposal to Create Fish Habitat and a 3-Foot levee Raise; (3) Maintenance Dredging with Upland Disposal and a 3-Foot Levee Raise; and (4) Maintenance Dredging with Beneficial Use of Dredged Material and a 3-Foot Levee Raise. This supplement was to reorganize and clarify information already included in the DMMP/EIS, expand the discussions and evaluations of measures considered in the DMMP/EIS, incorporate new information and data collected subsequent to the issuance of the DMMP/EIS, and modify alternatives, including the preferred alternative. When completed and approved, this SEIS, along with the DMMP/EIS, was to constitute the Corps' long-term programmatic plan for maintaining the congressionally-authorized navigation channel within the Walla Walla District.

The DMMP/EIS and additional environmental compliance documentation addressing navigation channel maintenance were challenged in court. Preliminary injunctions resulting from these challenges halted planned maintenance activities. The Corps is currently reviewing the previous documentation and will issue a new Notice of Intent, if applicable, announcing future environmental compliance that addresses navigation channel and sediment management in the Walla Walla District.

Randy L. Glaeser,
LTC, EN, Commanding.

[FR Doc. 05-4819 Filed 3-10-05; 8:45 am]

BILLING CODE 3710-GC-M